DEPARTMENT OF THE INTERIOR

National Park Service

30-Day Notice of Submission to the Office of Management and Budget (OMB); Opportunity for Public Comment

AGENCY: Department of the Interior, National Park Service.

ACTION: Notice and request for comments.

SUMMARY: Under provisions of the Paperwork Reduction Act of 1995 and 5 CFR part 1320, Reporting and Recordkeeping Requirements, the National Park Service (NPS) requested and received emergency approval on the collection of information; Interagency Access Pass Application Process (OMB #1024-0252), which expires on October 31, 2007. The NPS invites public comments on the extension of this currently approved collection.

DATES: Public comments on this Information Collection Request (ICR) will be accepted on or before November 29, 2007.

ADDRESSES: You may submit comments directly to the Desk Officer for the Department of the Interior (OMB #1024-0252), Office of Information and Regulatory Affairs, OMB, by fax at (202) 395-6566, or by electronic mail at oira_docket@omb.eop.gov. Please also send a copy of your comments to Brandon Flint, NPS, WASO Recreation Fee Program Office, 1849 C St., NW., (2608), Washington, DC 20240; or by e-mail at brandon_flint@nps.gov., or by fax at (202) 371-2401.

FOR FURTHER INFORMATION CONTACT: Brandon Flint, NPS, WASO Recreation Fee Program Office, 1849 C St., NW., (2608), Washington, DC 20240; phone (202) 513-7096; e-mail: brandon_flint@nps.gov., or by fax at (202) 371-2401.

Comments Received on the 60-Day Federal Register Notice: The NPS published the 60-Day Federal Register Notice to solicit comments on this ICR on May 25, 2007 (Vol. 72, pages 29351-29352). The comment period ended on July 24, 2007. There were no public comments received as a result of publishing this notice.

SUPPLEMENTARY INFORMATION: Title: The Interagency Access Pass Application Process.

Bureau Form Number: None.

OMB Number: 1024-0252.

Expiration Date: 10/31/2007.

Type of Request: Extension of a currently approved information collection.

Description of Need: The currently approved information collection responds to The Federal Lands Recreation Enhancement Act (FLREA) which requires the Secretary of Agriculture and the Secretary of the Interior to make the America the Beautiful—The National Parks and Federal Recreational Lands Pass available, for free, to any United States citizen or person domiciled in the United States who has been medically determined to be permanently disabled for purposes of section 7(20)(B)(i) of the Rehabilitation Act of 1973 (29 U.S.C. 705 (20)(B)(i)). The Act further requires that the applicant provide adequate proof of the disability and such citizenship or residency. The Act specifies that the Pass shall be valid for the lifetime of the pass holder. The America the Beautiful—The National Parks and Federal Recreational Lands Access Pass (Interagency Access Pass) was crated to meet the requirements of the FLREA. An Interagency Access Pass is a free, lifetime permit that is issued without charge by the Bureau of Land Management, Bureau of Reclamation, United States Fish and Wildlife Service, United States Forest Service, and the National Park Service to citizens or persons who are domiciled (permanent residents) in the United States, regardless of age, and who have a medical determination and documentation of permanent disability. Furthermore, the Pass is nontransferable and entitles the permittee and any person accompanying him in a single, private, non-commercial vehicle, or alternatively, the permittee and three adults to enter with him where entry to the area is by any means other than private, non-commercial vehicle. The Pass must be signed by the holder.

In order to issue the Interagency Access Pass only to persons who have been medically determined to be permanently disabled, in accordance with the FLREA direction, and in order to clarify, simplify, and provide uniform guidance for the public on the process for obtaining the Interagency Access Pass, the Secretaries of Agriculture and Interior established eligibility and required documentation guidelines for issuing the Interagency Access Pass and published them within the America the Beautiful—The National Parks and Federal Recreational Lands Pass Standard Operating Procedures. The procedures require the individual to appear in person and sign the Pass in the presence of the issuing agency officer. Acceptable documentation to verify that the individual had been medically determined to have a permanent disability includes:

A statement signed by a licensed physician attesting that the applicant has a permanent physical, mental, or sensory impairment that substantially limits one or more major life activities, and stating the nature of the impairment; Or

A document issued by a Federal agency, such as the Veteran's Administration, which attests that the applicant has been medically determined to be eligible to receive Federal benefits as a result of blindness or permanent disability. Other acceptable Federal agency documents include proof of receipt of Social Security Disability Income (SSDI) or Supplemental Security Income (SSI); Or

A document issued by a State agency such as the vocational rehabilitation agency, which attests that the applicant has been medically determined to be eligible to receive vocational rehabilitation agency benefits or services as a result of medically determined blindness or permanent disability. Showing a State motor vehicle department disability sticker, license plate or hang tag is not acceptable documentation;

Information available to the general public through agency Web sites and publications will inform potential Pass applicants of the documentation requirements. However, there are instances where applicants learn about the Pass when arriving at a recreation site and do not have the required documentation available. For those instances, a fourth option is available. If a person claims eligibility for the Access Pass, but cannot produce any of the documentation outlined, that person must read, sign, and date the Statement of Permanent Disability Form in the presence of the officer issuing the Pass. If the applicant cannot read and/or sign, someone else may read, date, and sign the statement on his/her behalf in the applicant's presence and in the presence of the officer issuing the Pass. The Interagency Access Pass replaces the Golden Access Passport that was established in 1980 by an amendment to the Land and Water Conservation Fund Act (L&WCFA) of 1965. Previously issued Golden Access Passports will remain valid for the lifetime of the Passport holder. The requested information and Statement of Permanent Disability have been collected and used since the creation of the Golden Access Passport in 1980 to verify that the individual had been medically determined to have a permanent disability for the issuance of the Golden Access Passport under OMB control number 0596-0173, under the authority of the L&WCFA.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask OMB in your comment to withhold your personal identifying information from public review, we cannot guarantee that OMB will be able to do so.

Description of respondents: United States citizens or persons domiciled in the United States who have been medically determined to be permanently disabled for the purposes of Section 7(20)(B)(i) of the Rehabilitation Act of 1973 (29 U.S.C. 705(20)(B)(i)).

Estimated average number of respondents: 73,400 per year.

Estimated average number of responses: 73,400 per year.

Estimated average time burden per respondent: 5 minutes.

Frequency of response: Once per respondent.

Estimated total annual reporting burden: 6,117 hours.

Dated: October 24, 2007.
Leonard E. Stowe,
NPS, Information Collection Clearance Officer.

[FR Doc. 07-5389 Filed 10-29-07; 8:45 am]

BILLING CODE 4312-53-M